DEPARTMENT OF ENERGY

Federal Energy Regulatory Commission

Combined Notice of Filings #1

February 14, 2006.

Take notice that the Commission received the following electric rate filings:

Docket Numbers: ER03-295-002.

Applicants: SESCO Enterprises, LLC.

Description: SESCO Enterprises, LLC submits its Triennial Updated Market Analysis.

Filed Date: 2/7/2006.

Accession Number: 20060210-0030.

Comment Date: 5 p.m. Eastern Time on Tuesday, February 28, 2006.

Docket Numbers: ER03-394-004; ER03-427-004; ER03-175-006.

Applicants: Elk Hills Power, LLC; Mesquite Power, LLC; Termoelectrica U.S., LLC.

Description: Elk Hills Power, LLC et al submit corrected pages to the affidavit which formed a part of the Triennial Update filed on 1/10/06.

Filed Date: 2/7/2006.

Accession Number: 20060209-0223.

Comment Date: 5 p.m. Eastern Time on Tuesday, February 28, 2006.

Docket Numbers: ER04-230-022; ER01-3155-015; ER01-1385-024; EL01-45-023.

Applicants: New York Independent System Operator, Inc.

Description: New York Independent System Operator, Inc. submits its Sixth Quarterly Report on the progress it is making in pursuing changes to software modeling requirements and market rules.

Filed Date: 2/8/2006.

Accession Number: 20060210-0032.

Comment Date: 5 p.m. Eastern Time on Wednesday, March 1, 2006.

Docket Numbers: ER06-187-001.

Applicants: Midwest Independent Transmission System Operator, Inc.

Description: Midwest Independent Transmission System Operator, Inc. submits supplemental informational filing to its executed Large Generator Interconnection Agreement with Valley View Transmission, LLC.

Filed Date: 2/7/2006.

Accession Number: 20060210-0031.

Comment Date: 5 p.m. Eastern Time on Tuesday, February 28, 2006.

Docket Numbers: ER06-455-001.

Applicants: Duquesne Power, LLC.

Description: Duquesne Power, LLC submits an amendment to the 1/5/06 Notice of Succession filing.

Filed Date: 2/8/2006.

Accession Number: 20060210-0026.

Comment Date: 5 p.m. Eastern Time on Wednesday, March 1, 2006.

Docket Numbers: ER06-526-001.

Applicants: Florida Power & Light Company.

Description: Florida Power & Light Co. submits an amended filing to correct the effective date on Tariff Sheets 408B and 408C filed on 1/18/06.

Filed Date: 2/7/2006.

Accession Number: 20060210-0033.

Comment Date: 5 p.m. Eastern Time on Tuesday, February 28, 2006.

Docket Numbers: ER06-569-001.

Applicants: American Electric Power Service Corporation.

Description: American Electric Power submits a replacement sheet for Original Sheet No.16 of Attachment 1 for an interconnection and local delivery service agreement with the Village of Greenwich, OH.

Filed Date: 2/7/2006.

Accession Number: 20060210-0029.

Comment Date: 5 p.m. Eastern Time on Tuesday, February 28, 2006.

Docket Numbers: ER06-614-000.

Applicants: Western Electricity Coordinating Council.

Description: Western Electricity Coordinating Council submits an amended version of their Electric Rate Schedule No. 1, reflecting changes to their Bylaws.

Filed Date: 2/7/2006.

Accession Number: 20060208-0385.

Comment Date: 5 p.m. Eastern Time on Tuesday, February 28, 2006.

Docket Numbers: ER06-617-000.

Applicants: New York Independent System Operator, Inc.

Description: New York Independent Sys. Oper. Inc. submits report of tariff implementation errors, request for approval of proposed compensation methodology, and request for limited tariff waivers.

Filed Date: 2/8/2006.

Accession Number: 20060213-0009.

Comment Date: 5 p.m. Eastern Time on Wednesday, March 1, 2006.

Docket Numbers: ER88-478-001; ER91-576-002.

Applicants: Ocean State Power; Ocean State Power II.

Description: Ocean State Power and Ocean State Power II submit a change in status with respect to the ownership of jurisdictional facilities and withdraw their 1/10/06 filing.

Filed Date: 2/6/2006.

Accession Number: 20060206-5014.

Comment Date: 5 p.m. Eastern Time on Monday, February 27, 2006.

Docket Numbers: ER97-2846-008.

Applicants: Florida Power Corporation.

Description: Florida Power Corp dba Progress Energy Florida, Inc notifies FERC that it has entered into a contract effective 1/25/06 for purchase of 50 MW of capacity from The Energy Authority, Inc for 1/1/06-9/30/06.

Filed Date: 2/8/2006.

Accession Number: 20060210-0028.

Comment Date: 5 p.m. Eastern Time on Wednesday, March 1, 2006.

Docket Numbers: ER99-830-016; ER04-925-008.

Applicants: Merrill Lynch Capital Services, Inc. and Merrill Lynch Commodities, Inc.

Description: Merrill Lynch Capital Services, Inc. and Merrill Lynch Commodities, Inc., submit notification of change in status.

Filed Date: 2/8/2006.

Accession Number: 20060208-5047.

Comment Date: 5 p.m. Eastern Time on Wednesday, March 1, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please e-mail FERCOnlineSupport@ferc.gov. or call (866) 208-3676 (toll free). For TTY, call (202) 502-8659.

Magalie R. Salas,
Secretary.

[FR Doc. E6-2628 Filed 2-23-06; 8:45 am]

BILLING CODE 6717-01-P